DEPARTMENT OF THE INTERIOR

Bureau of Land Management

[WY-030-06-5101-ER-K087; WYW-166510]

Notice of Intent To Prepare an Environmental Impact Statement for the Overland Pass Natural Gas Liquids Pipeline in Wyoming, Colorado, and Kansas

AGENCY: Bureau of Land Management, Interior.

ACTION: Notice of Intent to prepare an Environmental Impact Statement (EIS) and notice of public scoping meetings.

SUMMARY: Pursuant to section 102 (2)(C) of the National Environmental Policy Act of 1969 and in response to a Right-of-Way (ROW) application filed by Williams Field Services Company (Williams), the Bureau of Land Management (BLM), Rawlins Field Office, announces its intention to prepare an EIS and conduct public scoping meetings. Williams proposes to construct an approximately 750-mile long, 20-inch diameter natural gas liquids (NGL) pipeline originating at existing facilities in Opal, Wyoming, and ending at existing NGL processing facilities in Conway, Kansas. Of the 750 miles, approximately 78 miles of the pipeline would not be located near existing pipelines.

DATES: This notice initiates the public scoping process. The BLM can best use public input if comments and resource information are submitted within 45 days of publication of this notice. To provide the public an opportunity to review the proposal and project information, the BLM expects to hold at least four meetings.

The meetings will be conducted in an “open house” format in the evening with the BLM and project proponents available to explain project details and gather information from interested individuals or groups. BLM is proposing to host open houses in the following communities: Cheyenne and Rock Springs, Wyoming; Greeley, Colorado; and Hays, Kansas. The BLM will announce the exact dates, times, and locations for these meetings at least 15 days prior to the event. Announcements will be made by news release to the media, individual letter mailings, and posting on the BLM's Web site listed below, if it is available.

ADDRESSES: Please submit written comments or resource information to the Bureau of Land Management, Montrose Field Office, Tom Hurshman, Overland Pass Pipeline Project Manager, Bureau of Land Management, 2465 South Townsend, Montrose, CO 81401. Comments or resource information may also be submitted by facsimile to (970) 240-5367. Electronic mail may be sent to: tom_hurshman@co.blm.gov. Please write “Overland Pass Pipeline Project” in the subject line.

Documents pertinent to the ROW application may be examined at:

• Bureau of Land Management, Rawlins Field Office, P.O. Box 2407, 1300 N. Third Street, Rawlins, Wyoming 82301. Telephone (307) 328-4200; or

• Bureau of Land Management, Wyoming State Office, Public Room, 5353 Yellowstone Road, Cheyenne, WY 82003. Telephone (307) 775-6256.

Your response is important and will be considered in the environmental analysis process. If you do respond, we will keep you informed of the decision resulting from this analysis. Please note that public comments and information submitted regarding this project, including the names, e-mail addresses, and street addresses of respondents, will be available for public review and disclosure at the Montrose and Rawlins Field Offices during regular business hours (7:45 a.m. to 4:30 p.m.), Monday through Friday (except holidays). Individual respondents may request confidentiality. If you wish to withhold your name, e-mail address, or street address from public review or from disclosure under the Freedom of Information Act, you must state this plainly at the beginning of your written comments. Such requests will be honored to the extent allowed by law. All submissions from organizations or businesses and from individuals identifying themselves as representatives or officials of organizations or businesses will be made available for public inspection in their entirety.

FOR FURTHER INFORMATION CONTACT: Tom Hurshman, Bureau of Land Management Project Manager, 2465 South Townsend, Montrose, CO 81401. Mr. Hurshman may also be reached at (970) 240-5345, or by sending an electronic message to: tom_hurshman@co.blm.gov.

SUPPLEMENTARY INFORMATION: Williams has submitted an application for ROW grants across Federal lands to locate a 20-inch diameter pipeline that would be used to transport natural gas liquids from an existing facility in Opal, Wyoming, to an existing processing facility in Conway, Kansas, a length of approximately 750 miles. This proposed Overland Pass Pipeline route would traverse approximately 143.3 miles of federally-administered land in Wyoming and Colorado. In Wyoming, approximately 101.7 miles of the proposed pipeline location would cross public lands administered by three BLM Field Offices: Kemmerer, Rock Springs, and Rawlins. In addition, the proposed pipeline location crosses the following two units of the National Forest System administered by the United States Forest Service, Department of Agriculture. The proposed pipeline location includes approximately 1.2 miles of the Flaming Gorge National Recreation Area in Wyoming, and 39.7 miles of the Pawnee National Grassland north of Greeley, Colorado. No Federal lands in Kansas would be affected by this proposal.

The proposed route would generally follow the I-80 corridor through southern Wyoming, mainly along the Southern Star pipeline route. The proposed route proceeds in a southeasterly direction and enters Colorado in Weld County. From the Colorado border, the route would continue southeasterly into Kansas where it would continue eastward, paralleling the Southern Star Pipeline near Bushton, Kansas. Near Bushton, it would then parallel an existing BP Amoco pipeline to Williams' processing facilities in Mitchell and Conway, Kansas. At Conway, the transported natural gas liquids will be processed and distributed through the existing transportation infrastructure to consumer markets in the Midwest and Texas Gulf Coast.

Through public scoping, the BLM expects to identify various issues, potential impacts and mitigation measures, and alternatives to the proposed action. At present, the BLM has identified the following issues and concerns: Impacts to threatened, endangered, and sensitive species and their habitat; adverse impacts to visual resources; potential impacts to big game and other wildlife; land use conflicts; effect of the project on local and regional socioeconomic conditions; increased potential for introduction and spread of noxious weeds; and the ability to efficiently reclaim lands disturbed by pipeline construction or location.

The BLM will analyze the proposed action and no action alternatives, as well as other possible alternatives to the proposed pipeline and access routes. Your comments concerning the pipeline project as proposed and feasible alternative locations, possible mitigation measures, and any other information relevant to proposed action are encouraged. Any persons wishing to be added to a mailing list of interested parties can call or write to BLM, as described in this notice. Additional informational meetings may be conducted throughout the process to keep the public informed of the progress of the EIS.

Robert A. Bennett,
State Director.

[FR Doc. E6-4245 Filed 3-23-06; 8:45 am]

BILLING CODE 4310-22-P